ENVIRONMENTAL PROTECTION AGENCY

[FRL-6943-7]

Science Advisory Board; Notification of Public Advisory Committee Meeting

Pursuant to the Federal Advisory Committee Act, Public Law 92-463, notice is hereby given that the Environmental Models Subcommittee (EMS) National-Scale Air Toxics Assessment (NATA) Review Panel (hereafter, “NATA Review Panel”) of the USEPA Science Advisory Board's (SAB) Executive Committee (EC) will meet on the dates and times noted below. All times noted are Eastern Standard Time. All meetings are open to the public; however, seating is limited and available on a first come basis.

Important Notice: Documents that are the subject of SAB reviews are normally available from the originating EPA office and are not available from the SAB Office—information concerning availability of documents from the relevant Program Office is included below.

1—EC/EMS NATA Review Panel Teleconference—February 21, 2001

The Agency is planning to conduct an initial, national-scale assessment of the potential health risks associated with inhalation exposures to 32 air toxics identified as priority pollutants by the Agency's Integrated Urban Air Toxics Strategy, plus diesel emissions. While a number of the elements of this assessment plan have already undergone scientific peer review, the entire assembly of these elements and application of the full assessment approach have not. Therefore, the Agency is asking the NATA Review Panel to comment on the appropriateness of the overall approach, including the data, models, and methods used, and the ways these elements have been integrated, as well as to suggest ways to improve these approaches for subsequent national-scale assessments.

As a first step in this review, the NATA Review Panel will conduct a public conference call on Wednesday February 21, 2001 from 11 am to 1 pm (Eastern Standard Time). The call will be hosted out of the EPA Science Advisory Board Conference Room (Room 6013), Ariel Rios Federal Building, 1200 Pennsylvania Avenue, NW., Washington, DC 20004. Interested members of the public may attend in person or connect to the teleconference by phone. The purpose of the call is to provide Panel Members with the opportunity to clarify the Charge questions (see below), request any supplemental materials from the Agency, ask questions on materials already received from the Agency, and discuss preparations for a public meeting of the NATA Review Panel on March 20-21, 2001 in Durham, NC (see below for details on the March meeting).

Providing Public Comments—The NATA Review Panel will not be accepting oral or written public comments at the conference call, since this is an information-gathering meeting. Public comments in both formats will be accepted at the meeting on 20-21, 2001 (see details below).

For Further Information—To obtain information concerning this teleconference, please contact Dr. K. Jack Kooyoomjian, Designated Federal Officer (DFO) (see contact information below). To obtain information about how to participate in this teleconference, please contact Ms. Betty Fortune (see contact information below). A draft agenda for the teleconference will be posted on the SAB website (www.epa.gov/sab) approximately 10 days prior to the teleconference.

2—NATA Review Panel Meeting—March 20-21, 2001

The NATA Review Panel will meet on Tuesday and Wednesday, March 20-21, 2001 at the USEPA Environmental Research Center (ERC) Annex Building, Room S-23, 79 T.W. Alexander Drive, Durham, NC. The meeting will begin at 9 am and end no later than 5 pm each day.

Purpose of the Meeting—The NATA Review Panel will review and receive technical public comments on the EPA Document entitled “National-Scale Air Toxics Assessment for 1996”, (EPA-453/R-01-003), dated January, 2001. The Panel will respond to questions in the Charge (see below) that has been negotiated with the Agency: The Panel is free to address additional questions, as it sees fit.

Charge Questions—Keeping in mind the stated goals and preliminary nature of this assessment, EPA asks the NATA Review Panel to generally comment on the appropriateness of the overall approach, including the data, models, and methods used, and the ways in which these elements have been integrated. Also, EPA solicits suggestions on ways to improve these approaches for subsequent national-scale assessments. Specifically:

1. Given the nature of the National Toxics Inventory (NTI) and the methods by which it was developed and reviewed, have available emissions data been appropriately adapted for use in this assessment? Can the Panel suggest improvements to EPA's application of the NTI for use in future initial national-scale assessments?

(a) Can the Panel suggest improvements to the treatment of compound classes (e.g., chromium and compounds), given the nature of the information available in the inventory?

(b) Can the Panel suggest improvements to the methods used to spatially distribute area and mobile source emissions?

(c) Can the Panel suggest improvements to the methods used to specify default point source emission characteristics in lieu of missing emissions data?

2. Is the approach taken for the geographic aggregation of ambient and exposure concentrations generated by the ASPEN and HAPEM4 models appropriate in light of the limitations of the models and of the available emissions data?

3. Has available dose-response information (e.g., different sources of information, a different prioritization scheme) been appropriately used in this assessment? Can the Panel suggest methods that could improve upon the use of available dose-response information?

4. What are the strengths and the weaknesses of the overall conceptual approach to risk characterization used in this assessment? Given the underlying science and the intended purposes of the assessment, can the Panel suggest ways in which the risk characterization could be improved?

(a) Is the method used to aggregate cancer risks appropriate? The aggregation of carcinogenic risk within two categories, based on weight-of-evidence classifications, is of particular interest.

(b) Is the method used to aggregate non-cancer hazards appropriate? The summation of hazard quotients within target organs, the categorization of sums by ranges of uncertainty factors, and the inclusion of all target organs (as opposed to only the organs associated with the critical effect) are of particular interest.

5. Although EPA has concluded that available data are not sufficient to develop a reliable quantitative estimate of cancer unit risk for diesel emissions, it is clear that this pollutant class may be of significant concern in a number of urban settings. The risk characterization in this report includes a discussion of diesel particulate matter to help states and local areas frame the importance of this pollutant compared to the other air toxics. In the context of this assessment, is the discussion in this report regarding making risk comparisons among other air toxics appropriate? Can the Panel provide any suggestions that would improve upon this approach to comparing the toxic health effects of diesel particulate matter with other pollutants?

6. Given the limitations inherent in this preliminary assessment, have uncertainty and variability been appropriately characterized?

(a) Can the Panel suggest ways that the characterization of uncertainty and variability could be improved, made more transparent, or integrated more effectively into the risk characterization?

(b) Can the Panel suggest methods for quantifying individual as well as composite uncertainties associated with the emissions inventory, dispersion modeling, exposure modeling, dose-response assessment, quantitative risk estimates, and accumulation of risk across air toxics?

7. Have the results of the assessment been appropriately and clearly presented? Can the Panel suggest alternative methods or formats that could improve the presentation and communication of these results?

8. Does the Panel have suggestions for research priorities that would improve such air toxics assessments in the future?

Availability of Review Materials—To obtain a copy of the review document (National-Scale Air Toxics Assessment for 1996, EPA-453/R-01-003, dated January, 2001) and supporting appendices, please contact Ms. Barbara Miles at U.S. EPA, OAQPS/ESD/REAG (MD-13), Research Triangle Park, NC 27711; telephone (919) 541-5648; facsimile (919) 541-0840; e-mail miles.barbara@epa.gov. Please provide the title and the EPA number for the document, as well as your name and address. The document will be dispensed in CD ROM format unless the requestor requires a paper copy. Internet users may download a copy from EPA's National Center for Environmental Assessment's (NCEA) website (http://www.epa.gov/nata/).

Following the meeting, the NATA Review Panel will draft a publicly available report that will be forwarded to the SAB Executive Committee for final review and approval, prior to transmittal to the Agency. This review will be announced in a subsequent Federal Register notice.

For Further Information—Members of the public desiring additional information about the meeting should contact Dr. K. Jack Kooyoomjian, Designated Federal Officer (DFO), Environmental Models Subcommittee, National-Scale Air Toxics Assessment Review Panel, US EPA Science Advisory Board (1400A), U.S. EPA, 1200 Pennsylvania Avenue, NW, Washington, DC 20460 (FedEx address: US EPA Science Advisory Board, Suite 6450, 1200 Pennsylvania Avenue, NW, Washington, DC 20004); telephone/voice mail at (202) 564-4557; fax at (202) 501-0582; or via e-mail at kooyoomjian.jack @epa.gov. The draft agenda will be available approximately two weeks prior to the meetings on the SAB website (http://www.epa.gov/sab) or from Ms. Betty Fortune at (202) 564-4534; fax: (202) 501-0582; or e-mail at: fortune.betty@epa.gov.

Providing Public Comments—Members of the public who wish to make a brief oral presentation at the meeting must contact Dr. Kooyoomjian in writing (by letter, fax, or e-mail—see previously stated information) no later than 12 noon Eastern Time, Wednesday, March 14, 2001 in order to be included on the Agenda. Written statements will be accepted in the SAB Staff office up until two days following the meeting (by close of business, March 23, 2001).

3. NATA Review Panel Contingent Teleconference—April 24, 2001

The NATA Review Panel, may, depending on progress achieved in developing its report from the March 20-21, 2001 meeting, convene in a public teleconference on Tuesday, April 24, 2000 between 1 and 3 pm. The meeting will be coordinated through a conference call connection in Room 6013 in the US EPA, Ariel Rios Building, 1200 Pennsylvania Avenue, NW, Washington, DC 20004. The public is encouraged to attend the meeting in the conference room noted above, however, a limited number of the public may also attend through a telephonic link. Additional instructions about how to participate in the meeting can be obtained by calling Ms. Betty Fortune prior to the meeting (see contact information given above).

Purpose of the Meeting—The NATA Review Panel is planning a teleconference for the above noted date on a contingency basis. The teleconference will be convened only if, in the opinion of the Panel Chair, it is needed to address issues that require further discussion prior to completion of the Committee's report. A decision as whether or not the teleconference [announced in this meeting notice] will be convened will be made by close of business, Friday, April 13, 2001, 11 days prior to the tentatively scheduled date. The decision on the teleconference will be posted to the SAB website (www.epa.gov/sab); or members of the public may call or email Ms. Betty Fortune at the telephone and e-mail address previously given.

Availability of Review Materials—If this teleconference is to be held, a list of the issues to be discussed, along with a draft meeting agenda, will be posted on the SAB website (www.epa.gov/sab) under the “Agenda” heading on or about April 13, 2001. If the meeting is canceled, a notice will be posted on the SAB website to that effect, as well.

For Further Information—To obtain information concerning this contingent teleconference, please contact Dr. K. Jack Kooyoomjian, Designated Federal Officer (DFO) (see contact information previously given). To obtain information about how to participate in this teleconference, please contact Ms. Betty Fortune (see contact information previously given).

Providing Oral or Written Comments at SAB Meetings

It is the policy of the Science Advisory Board to accept written public comments of any length, and to accommodate oral public comments whenever possible. The Science Advisory Board expects that public statements presented at its meetings will not be repetitive of previously submitted oral or written statements.

Oral Comments: In general, each individual or group requesting an oral presentation at a face-to-face meeting will be limited to a total time of ten minutes. For teleconference meetings, opportunities for oral comment will usually be limited to no more than three minutes per speaker and no more than fifteen minutes total, unless otherwise stated. Deadlines for getting on the public speaker list for a meeting are given above. Speakers should bring at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Dr. Kooyoomjian at least five business days prior to the meeting so that appropriate arrangements can be made.

Dated: February 1, 2001.
Donald G. Barnes,
Staff Director, Science Advisory Board.

[FR Doc. 01-3503 Filed 2-9-01; 8:45 am]

BILLING CODE 6560-50-U